DEPARTMENT OF VETERANS AFFAIRS

[OMB Control No. 2900-0793]

Agency Information Collection Activity Under OMB Review: VA Health Professional Scholarship and Visual Impairment and Orientation and Mobility Professional Scholarship Programs

AGENCY: Veterans Health Administration, Department of Veterans Affairs.

ACTION: Notice.

SUMMARY: In compliance with the Paperwork Reduction Act (PRA) of 1995, this notice announces that the Veterans Health Administration, Department of Veterans Affairs, will submit the collection of information abstracted below to the Office of Management and Budget (OMB) for review and comment. The PRA submission describes the nature of the information collection and its expected cost and burden and it includes the actual data collection instrument.

DATES: Comments must be submitted on or before August 22, 2018.

ADDRESSES: Submit written comments on the collection of information through www.Regulations.gov, or to Office of Information and Regulatory Affairs, Office of Management and Budget, Attn: VA Desk Officer; 725 17th St. NW, Washington, DC 20503 or sent through electronic mail to oira_submission@omb.eop.gov. Please refer to “OMB Control No. 2900-0793” in any correspondence.

FOR FURTHER INFORMATION CONTACT: Cynthia Harvey-Pryor, Office of Quality, Privacy and Risk (OQPR), Department of Veterans Affairs, 810 Vermont Avenue NW, Washington, DC 20420, (202) 461-5870 or email cynthia.harvey-pryor@va.gov. Please refer to “OMB Control No. 2900-0793” in any correspondence.

SUPPLEMENTARY INFORMATION:

Authority: 38 U.S.C. 7601 through 7619, and 38 U.S.C. 7501 through 7505.

Title:

1. Academic Verification, VA Form 10-0491

2. Addendum to Application, VA Form 10-0491a

3. Annual VA Employment Deferment Verification, VA Form 10-0491c

4. Education Program Completion Notice Service Obligation Placement, VA Form 10-0491d

5. Evaluation Recommendation Form, VA Form 10-0491e

6. HPSP Agreement, VA Form 10-0491f

7. HPSP/OMPSP Application, VA Form 10-0491g

8. Notice of Approaching Graduation, VA Form 10-0491h

9. Notice of Change and/or Annual Academic Status Report, VA Form 10-0491i

10. Request for Deferment for Advanced Education, VA Form 10-0491j

11. VA Scholarship Offer Response, VA Form 10-0491k

12. VIOMPSP Agreement, VA Form 10-0491l

13. Mobility Agreement, VA Form 10-0491m

OMB Control Number: 2900-0793.

Type of Review: Revision of a currently approved collection.

Abstract: The information required determines the eligibility or suitability of an applicant desiring to receive an award under the provisions of 38 U.S.C. 7601 through 7619, and 38 U.S.C. 7501 through 7505. The information is needed to apply for the VA Health Professional Scholarship Program or Visual Impairment and Orientation and Mobility Professional Scholarship Program. The VA Health Professional Scholarship Program awards scholarships to students receiving education or training in a direct or indirect healthcare services discipline to assist in providing an adequate supply of such personnel for VA and for the United States. The Visual Impairment and Orientation and Mobility Professional Scholarship Program awards scholarships to students pursuing a program of study leading to a degree in visual impairment or orientation and mobility in order to increase the supply of qualified blind rehabilitation specialists for VA and the Nation.

An agency may not conduct or sponsor, and a person is not required to respond to a collection of information unless it displays a currently valid OMB control number. The Federal Register Notice with a 60-day comment period soliciting comments on this collection of information was published at 83 FR 16925 on April 17, 2018, pages 16925 through 16927.

Affected Public: Individuals or Households.

Estimate of the Hour Burden for the Collection of Information
VA Forms: | Number of respondents | × Number of responses | Equals | × Number of minutes | Equals (minutes) | ÷ by 60 = | Number of hours
Applicants
10-0491g—Application | 1,500 | 1 | 1,500 | 60 | 90,000 |  | 1,500
10-0491—Academic Verification | 1,500 | 1 | 1,500 | 60 | 90,000 |  | 1,500
10-0491e—Evaluation & Recommendation | 1,500 | 2 | 3,000 | 50 | 150,000 |  | 2,500
10-0491a—Addendum to Application | 450 (30%) | 1 | 450 | 10 | 4,500 |  | 75
Total |  |  |  |  |  |  | 5,575
Applicants Selected To Receive a Scholarship
10-0491m—Mobility Agreement | 30 | 1 | 30 | 10 | 300 |  | 5
10-0491l—Agreement for the VIOMPSP | 30 | 1 | 30 | 15 | 450 |  | 8
10-0491k—VA Scholarship Offer Response | 30 | 1 | 30 | 10 | 300 |  | 5
10-0491i—Notice of Change and/or Annual Academic Status Report | 30 | 1 | 30 | 20 | 600 |  | 10
10-0491h—Notice of Approaching Graduation | 30 | 1 | 30 | 10 | 300 |  | 5
10-0491d—Education Program Completion Notice/Service Obligation Placement | 30 | 1 | 30 | 20 | 600 |  | 10
10-0491j—Request for Deferment for Advanced Education | 6 | 1 | 6 | 10 | 60 |  | 1
10-0491c—Annual VA Employment/Deferment Verification | 30 | 1 | 24 | 10 | 240 |  | 4
Total |  |  |  |  |  |  | 48
Grand Total for VIOMPSP |  |  |  |  |  |  | 5,623
Health Professional Scholarship Program (HPSP): Applicants
10-0491g—Application | 5,000 | 1 | 5,000 | 60 | 300,000 |  | 5,000
10-0491—Academic Verification | 5,000 | 1 | 5,000 | 60 | 300,000 |  | 5,000
10-0491e—Evaluation & Recommendation | 5,000 | 2 | 10,000 | 50 | 500,000 |  | 8,333
10-0491a—Addendum to Application | 1,500 (30%) | 1 | 1,500 | 10 | 15,000 |  | 250
Total |  |  |  |  |  |  | 18,583
Applicants Selected To Receive a Scholarship
10-0491m—Mobility Agreement | 100 | 1 | 100 | 10 | 1,000 |  | 17
10-0491f—Agreement for the HPSP | 100 | 1 | 100 | 15 | 1,500 |  | 25
10-0491k—VA Scholarship Offer Response | 100 | 1 | 100 | 10 | 1,000 |  | 17
10-0491i—Notice of Change and/or Annual Academic Status Report | 100 | 1 | 100 | 20 | 2,000 |  | 33
10-0491h—Notice of Approaching Graduation | 100 | 1 | 100 | 10 | 1,000 |  | 17
10-0491d—Education Program Completion Notice/Service Obligation Placement | 100 | 1 | 100 | 20 | 2,000 |  | 33
10-0491j—Request for Deferment for Advanced Education | 20 | 1 | 20 | 10 | 200 |  | 3
10-0491c—Annual VA Employment/Deferment Verification | 80 | 1 | 80 | 10 | 800 |  | 13
Total |  |  |  |  |  |  | 158
Grand Total for HPSP |  |  |  |  |  |  | 18,741
Grand total for both VIOMPSP and HPSP |  |  |  |  |  |  | 24,364

By direction of the Secretary.
Cynthia D. Harvey-Pryor,
Department Clearance Officer, Office of Quality, Privacy and Risk, Department of Veterans Affairs.

[FR Doc. 2018-15638 Filed 7-20-18; 8:45 am]

BILLING CODE 8320-01-P